DEPARTMENT OF THE INTERIOR

National Park Service

[NPS-WASO-NRNHL-DTS#-40757; PPWOCRADI0, PCU00RP14.R50000]

National Register of Historic Places; Notification of Pending Nominations and Related Actions

AGENCY: National Park Service, Interior.

ACTION: Notice.

SUMMARY: The National Park Service is soliciting electronic comments on the significance of properties nominated before July 19, 2025, for listing or related actions in the National Register of Historic Places.

DATES: Comments should be submitted electronically by September 23, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before July 19, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ILLINOIS

Cook County

The Charles and Emma Brodt House, 1436 W Foster Avenue, Chicago, SG100012165

On Leong Merchants Association Building, 2216 South Wentworth Avenue, Chicago, SG100012168

De Kalb County

Cook, President John Williston, Mansion, 411 College Ave., DeKalb, SG100012171

Stark County

Dr. Thomas Hall's Office, 318 West Jefferson, Toulon, SG100012169

INDIANA

Allen County

Pennsylvania Produce Terminal Historic District—Fort Wayne, 420, 433, 435, 438, 440, 450 East Brackenridge Street, Fort Wayne, SG100012181

Dearborn County

Walker Hill Farm, 9939, 9925 and 9787 Hwy. 50, Aurora, SG100012174

Dubois County

Indiana Desk Company, 1224 Mill Street, Jasper, SG100012177

Fountain County

Veedersburg First Christian Church, 301 North Mill Street, Veedersburg, SG100012173

Grant County

Marion First United Methodist Church, 624 South Adams Street, Marion, SG100012180

Lake County

St. Mark A.M.E. Zion Church, 4200 Alder Street, East Chicago, SG100012182

Marion County

John Hope School No. 26, (Public School Buildings in Indianapolis Built Before 1940 MPS), 1301 East 16th Street, Indianapolis, MP100012178

Martin County

Loogootee Commercial Historic District, Each side of John F. Kennedy Ave. between Vincennes/Butcher and Railroad Streets, extending northeast/southeast to NE & NW 1st Streets south of Wood Street, Loogootee, SG100012179

Porter County

Wilson, Edward Astoria and Margaret, House, 1001 W US 20, Porter, SG100012175

Pulaski County

Francesville Commercial Historic District, Each side of Montgomery Street between Brooks and Salem Streets and each side of Bill Street between Yellow and Lyman Streets, Francesville, SG100012176

MASSACHUSETTS

Hampden County

The Van der Heyden, 770-780 State Street, Springfield, SG100012170

MICHIGAN

Alpena County

Alpena Central Historic District, The district is generally bounded by South Chisholm Street, West Washington Avenue, West Fifth Avenue, North Second Avenue, West Clark Street, Ford Avenue, and Thunder Bay, Alpena, SG100012172

NEW YORK

Bronx County

E. Robert Moore Houses, 674 and 694 East 149th Street, 535 and 525 Jackson Avenue, Bronx, SG100012184

Erie County

Playter-King-Felthousen House, 617 Niagara Street, Buffalo, SG100012185

Franklin County

The Moorings, 365 Big Wolf Road East, Tupper Lake, SG100012186

Nassau County

Lynbrook Public Library, 56 Eldert Street, Lynbrook, SG100012187

NORTH CAROLINA

Montgomery County

Lane's Chapel Methodist Church and Cemetery, 144 Lane's Chapel Road, New London (Eldorado Township) vicinity, SG100012160

Rowan County

Livingstone College Historic District (Boundary Increase and Decrease), 701 W Monroe Street, Salisbury, BC100012193

SOUTH DAKOTA

Haakon County

Stroppel Hotel and Hot Mineral Baths, 602 Main Street, Midland, SG100012183

TEXAS

Burleson County

Ethiopian Star Lodge #308, 211 County Road 267, Snook vicinity, SG100012167

Additional documentation has been received for the following resource(s):

ARIZONA

Coconino County

North End Historic Residential District, (Flagstaff MRA) Roughly bounded by Hunt, San Fransisco and Verde, Elm and Cherry, and Beaver and Humphreys Sts., Flagstaff, AD86000899

KANSAS

Douglas County

Pinkney I Historic District (Additional Documentation), (Lawrence, Kansas MPS), Roughly bounded by West 5th St., Tennessee St., West 6th St., and Louisiana St., with 501-533 Louisiana St. and 444-445 West 5th St., Lawrence, AD04000688

NORTH CAROLINA

Rowan County

Livingstone College Historic District (Additional Documentation), W Monroe St., Salisbury, AD82003509

UTAH

Cache County

Lewiston Tithing Office and Granary, (Tithing Offices and Granaries of the Mormon Church TR), 87 E 800 South, Lewiston, AD85000252

Nomination(s) submitted by Federal Preservation Officers:

The State Historic Preservation Officer reviewed the following nomination(s) and responded to the Federal Preservation Officer within 45 days of receipt of the nomination(s) and supports listing the properties in the National Register of Historic Places.

NEW MEXICO

McKinley County

Fort Wingate Historic District (Boundary Increase), Main Street, Fort Wingate, BC100012191

Fort Wingate Historic District (Additional Documentation), NM 400, Fort Wingate, AD78003076

(Authority: Section 60.13 of 36 CFR part 60.)

Sherry A. Frear,
Chief, National Register of Historic Places/National Historic Landmarks Program.

[FR Doc. 2025-17099 Filed 9-5-25; 8:45 am]

BILLING CODE 4312-52-P